DEPARTMENT OF EDUCATION

Notice of Proposed Information Collection Requests; Federal Student Aid; Student Assistance General Provisions Non-Title IV Revenue Requirements (90/10)

SUMMARY: The Department of Education's regulations at 34 CFR 668.28(b) and 668.28(c) establish the requirements under which a prorprietary institution of higher education must derive at least ten percent of its annual revenue from resources other than Title IV Higher Education Act (HEA) funds, and implements the Net Present Value (NPV) formula and its alternative calculation prescribed by the statute and implemented through these regulations, and identifies sanctions for failing to meet the requirements.

DATES: Interested persons are invited to submit comments on or before December 3, 2012.

ADDRESSES: Comments submitted in response to this notice should be submitted electronically through the Federal eRulemaking Portal at http://www.regulations.gov by selecting Docket ID number ED-2012-ICCD-0030 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ Room 2E117, Washington, DC 20202-4537. Please specify the complete title of the information collection and OMB Control Number when making your request.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions Non-Title IV Revenue Requirements (90/10).

OMB Control Number: 1845-0096.

Type of Review: Extension.

Total Estimated Number of Annual Responses: 2,201.

Total Estimated Number of Annual Burden Hours: 3,302.

Abstract: As provided by the Higher Education Opportunity Act (Pub. L. 110-315), the Department of Education's regulations at 34 CFR 668.28(b) and 668.28(c) provide that a proprietary institution must derive at least 10% of its annual revenue from sources other than Title IV, HEA funds, identifies sanctions for failing to meet the requirement, and otherwise implement the statute by (1) specifying a NPV formula used to establish the revenue for institutional loans, (2) providing an administratively easier alternative to the NPV calculation, and (3) describing more fully the non-Title IV eligible programs from which revenue may be counted for 90/10 purposes. The regulations require an institution to disclose in a footnote to its audited financial statements the amounts of Federal and non-Federal revenues, by category, that it used in calculating its 90/10 ratio (see section 487(d) of the HEA). This request is for extending approval of reporting requirements contained in the regulations related to the administrative requirements of the non-Title IV revenue requirement (90/10) program. The information collection requirements in the regulations are necessary to determine eligibility to receive program benefits and to prevent fraud and abuse of program funds.

Dated: September 26, 2012.
Darrin A. King,
Director, Information Collection Clearance Division, Privacy, Information and Records Management Services, Office of Management.

[FR Doc. 2012-24222 Filed 10-2-12; 8:45 am]

BILLING CODE 4000-01-P